DEPARTMENT OF THE INTERIOR

National Park Service

[NPS-WASO-NRNHL-12901; PPWOCRADI0, PCU00RP14.R50000]

National Register of Historic Places; Notification of Pending Nominations and Related Actions

Nominations for the following properties being considered for listing or related actions in the National Register were received by the National Park Service before April 20, 2013. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by June 3, 2013. Before including your address, phone number, email address, or other personal identifying information in your comment, you should be aware that your entire comment—including your personal identifying information—may be made publicly available at any time. While you can ask us in your comment to withhold your personal identifying information from public review, we cannot guarantee that we will be able to do so.

Dated: April 23, 2013.
J. Paul Loether,
Chief, National Register of Historic Places/National Historic Landmarks Program.

ALASKA

Lake and Peninsula Borough-Census Area

Wassillie Trefon Dena'ina Fish Cache, One Park Pl., Port Alsworth, 13000348

ARKANSAS

Conway County

Moose Addition Neighborhood Historic District, Roughly bounded by W. Valley, S. Moose, Green, Brown & S. Division Sts., Morrillton, 13000349

Hempstead County

Mounds Cemetery, Address Restricted, Columbus, 13000350

Logan County

Booneville Commercial Historic District, E. side of 100 & 200 blks. of N. Broadway Ave., Booneville, 13000351

HAWAII

Honolulu County

Marconi Wireless Telegraphy Station, 56-1095 Kamehameha Hwy., Kahuku, 13000352

IDAHO

Payette County

St. John's Church, 350 N. 4th St., Payette, 13000353

NEW JERSEY

Essex County

Pleasant Days, 274 Old Short Hills Rd., Millburn, 13000354

Mercer County

Trenton Ferry Historic District, Roughly bounded by S. Broad & Federal Sts., Delaware R. & Amtrak NW. Corridor, Trenton, 13000355

NEW YORK

Herkimer County

Brace Farm, 428 Brace Rd., Meetinghouse Green, 13000356

Meetinghouse Green Road Cemetery, Cross & Meeting House Rds., Meetinghouse Green, 13000357

Niagara County

Herschell—Spillman Motor Company Complex, The, 184 Sweeney St., North Tonawanda, 13000358

Oneida County

Rome Elks Lodge No. 96, 126 W. Liberty St., Rome, 13000359

Rensselaer County

Auclair—Button Farmstead (Farmsteads of Pittstown, New York MPS), 80 Auclair Way, Melrose, 13000360

Cartin—Snyder—Overacker Farmstead (Farmsteads of Pittstown, New York MPS), 559 Cushman Rd., Melrose, 13000361

Rockland County

Rockland Print Works, 55 W. Railroad Ave., Garnerville, 13000362

NORTH DAKOTA

McKenzie County

32MZ1184 (Native American Occupation and Utilization of the Little Missouri River Grasslands MPS), Address Restricted, Grassy Butte, 13000347

VIRGINIA

Loudoun County

Arcola Elementary School, 24244 Gum Spring Rd., Sterling, 13000363

Winchester Independent city

Hawthorne and Old Town Spring, 610 & 730 Amherst St., Winchester (Independent City), 13000364

[FR Doc. 2013-11725 Filed 5-16-13; 8:45 am]

BILLING CODE 4312-51-P